ENVIRONMENTAL PROTECTION AGENCY

[EPA-HQ-OPP-2009-0365; FRL-8425-4]

Azinphos-methyl; Notice of Receipt of Request for Label Amendments

AGENCY: Environmental Protection Agency (EPA).

ACTION: Notice.

SUMMARY: EPA is seeking public comment on a June 18, 2009 request by azinphos-methyl (AZM) registrants to amend their registrations to change the rate reductions outlined in the November 16, 2006 final decision for some of the remaining uses of AZM, and to extend the use of aerial application on blueberries in Michigan through the end of the AZM phase out in 2012. On November 16, 2006, EPA issued a final decision to phase out all uses of AZM not later than September 30, 2012 and to require certain interim risk mitigation measures through label changes. Risk mitigation measures in the final decision include buffer zones around water bodies and occupied structures, application rate reductions, and stewardship programs. The request by the registrants is a request to change some of the rate reductions and certain application practices that have been required through the end of the AZM phaseout; the registrants have not requested to extend the use of AZM beyond the September 30, 2012 cancellation date for the remaining uses of AZM.

DATES: Comments must be received on or before September 21, 2009.

ADDRESSES: Submit your comments identified by the docket identification (ID) number EPA-HQ-OPP-2009-0365, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number EPA-HQ-OPP-2009-0365. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Tom Myers, Chemical Review Manager, Special Review and Reregistration Division (7508P), Office of Pesticide Programs, Environmental Protection Agency, 1200 Pennsylvania Ave., NW., Washington, DC 20460-0001; telephone number: (703) 308-8589; fax number: (703) 308-7070; e-mail address: myers.tom@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests for AZM Label Amendments

AZM is an organophosphate insecticide that was first registered in the United States in 1959. On November 16, 2006, EPA issued a determination that due to farm worker and ecological risks all remaining uses of AZM will be phased out by 2012. The AZM registrants, at the request of EPA, submitted registration amendment and voluntary cancellation requests to terminate certain uses in 2007 and 2009 and cancel all remaining AZM product registrations in 2012, subject to certain terms and conditions. A cancellation order for the remaining uses of AZM was published in the Federal Register on February 20, 2008 (73 FR 9328) (FRL-8349-8). A correction of typographical errors in the February 20, 2008 Federal Register notice was issued on March 26, 2008 (73 FR 16006) (FRL-8355-1). Subject to the terms and conditions described in Unit II. of the February 20, 2008 notice, the AZM product registrations were cancelled and amended as follows: Use of AZM products on Brussels sprouts and nursery stock was prohibited as of September 30, 2008. Use of AZM products on walnuts, almonds, and pistachios is prohibited effective October 30, 2009. All AZM products currently held by registrants are cancelled effective September 30, 2012 (ending use on apples/crabapples, blueberries, cherries, pears, and parsley). In addition to the aforementioned use deletions and product cancellations, the use of AZM was increasingly limited during the phase out period through application rate reductions and other label restrictions, including buffer zones around water bodies and occupied structures. The application rate reductions required in the AZM Final Decision document are located in Table 1.

Table 1.—Rate Reductions Required in the AZM Final Decision Document, dated November 16, 2006.
Crop | Year | Rate
Apples, Crabapples | 2007 | 4.0 lbs ai/A per year
| 2008, 2009 | 3.0 lbs ai/A per year
| 2010 | 2.0 lbs ai/A per year
| 2011, 2012 | 1.5 lbs ai/A per year
Pears | 2007, 2008 | 3.0 lbs ai/A per year
| 2009, 2010 | 2.0 lbs ai/A per year
| 2011, 2012 | 1.5 lbs ai/A per year
Cherries | 2007, 2008, 2009 | 1.5 lbs ai/A per year
| 2010, 2011, 2012 | 0.75 lbs ai/A per year
Blueberries | 2007 | 1.5 lbs ai/A per year
| 2008, 2009 | 1.25 lbs ai/A per year
| 2010, 2011, 2012 | 0.75 lbs ai/A per year
| After September 30, 2009 aerial application on blueberries is prohibited.

The additional label changes required are described in the document “Final Decisions for the Remaining Uses of Azinphos-methyl, US EPA, November 16, 2006,” located in docket EPA-HQ-OPP-2005-0061.

III. What Action is the Agency Taking?

This notice announces receipt by EPA of a request from registrants to amend registrations to alter the rate reductions outlined in the November 16, 2006 Final Decision for the Remaining Uses of AZM, and to extend the use of aerial application on blueberries in Michigan through the end of the AZM phase out. The registrants have requested that for apples/crabapples, blueberries, cherries, and pears that growers be allowed to use higher applications rates than originally required in the Final Decision document of November 16, 2006. Additionally, registrants have requested that the aerial use of AZM on blueberries, currently scheduled to be prohibited starting January 1, 2010, be allowed through the end of the phaseout (September 30, 2012). The request by the registrants would change some of the rate reductions and certain application practices that have been required through the end of the AZM phaseout; the registrants have not requested to extend use of AZM beyond the September 30, 2012 cancellation date for the remaining uses of AZM. The changes requested by the registrants are listed in the Table 2.

Table 2.—Requested AZM Label Changes as Described in the June 18, 2009 Registrant Submission
Crop | Year | Rate
Apples, Crabapples | 2010, 2011, 2012 | 2.0 lbs ai/A per year
Pears | 2010, 2011, 2012 | 2.0 lbs ai/A per year
Cherries | 2010, 2011, 2012 | 1.5 lbs ai/A per year
Blueberries | 2010, 2011, 2012 | 1.0 lbs ai/A per year
| Maintain aerial application on blueberries through September 30, 2012.

The Agency is requesting comment on the registrant submission to amend registrations. The registrant request letter is in the docket for comment, along with an EPA-produced document with considerations for commenters on the registrant request. The Agency welcomes comments from all stakeholders, as well as any new information on human health or environmental risks not previously considered.

List of Subjects

Environmental protection, Pesticides and pests, Azinphos-methyl.

Dated: July 15, 2009.
Richard P. Keigwin, Jr.,
Director, Special Review and Reregistration Division, Office of Pesticide Programs.

[FR Doc. E9-17398 Filed 7-21-09; 8:45 am]

BILLING CODE 6560-50-S